DEPARTMENT OF ENERGY

Federal Energy Regulatory Commission

Combined Notice of Filings #2

Take notice that the Commission received the following exempt wholesale generator filings:

Docket Numbers: EG12-36-000.

Applicants: Solano 3 Wind LLC.

Description: Supplement to Notice of Self-Certification of Exempt Wholesale Generator Status of Solano 3 Wind LLC.

Filed Date: 3/13/12.

Accession Number: 20120313-5131.

Comments Due: 5 p.m. ET 4/10/12.

Take notice that the Commission received the following electric rate filings:

Docket Numbers: ER12-749-001.

Applicants: Midwest Independent Transmission System Operator, Inc., Ameren Transmission Company of Illinois.

Description: Midwest Independent Transmission System Operator, Inc. submits tariff filing per 35: 03-30-12 ATXI Attachment O and GG Compliance to be effective 3/1/2012.

Filed Date: 3/30/12.

Accession Number: 20120330-5363.

Comments Due: 5 p.m. ET 4/20/12.

Docket Numbers: ER12-1393-000.

Applicants: Southern California Edison Company.

Description: 2012 TACBAA Update to be effective 6/1/2012.

Filed Date: 3/30/12.

Accession Number: 20120330-5002.

Comments Due: 5 p.m. ET 4/20/12.

Docket Numbers: ER12-1394-000.

Applicants: New York Independent System Operator, Inc., Niagara Mohawk Power Corporation.

Description: NMPC/National Grid Filing re: OATT Amendments to Wholesale TSC to be effective 7/1/2012.

Filed Date: 3/30/12.

Accession Number: 20120330-5059.

Comments Due: 5 p.m. ET 4/20/12.

Docket Numbers: ER12-1395-000.

Applicants: Midwest Independent Transmission System Operator, Inc., MidAmerican Energy Company.

Description: MidAmerican-Pella WDS to be effective 4/1/2012.

Filed Date: 3/30/12.

Accession Number: 20120330-5061.

Comments Due: 5 p.m. ET 4/20/12.

Docket Numbers: ER12-1396-000.

Applicants: MidAmerican Energy Company.

Description: Interconnection Agreement between City of Pella and MEC to be effective 4/1/2012.

Filed Date: 3/30/12.

Accession Number: 20120330-5080.

Comments Due: 5 p.m. ET 4/20/12.

Docket Numbers: ER12-1397-000.

Applicants: PJM Interconnection, L.L.C., PPL Electric Utilities Corporation.

Description: PPL Electric submits revisions to OATT Attachment H-8A to be effective 6/1/2012.

Filed Date: 3/30/12.

Accession Number: 20120330-5113.

Comments Due: 5 p.m. ET 4/20/12.

Docket Numbers: ER12-1398-000.

Applicants: Westar Energy, Inc.

Description: KEPCo, Revisions to Attachment A—Delivery Points (6/1/12) to be effective 6/1/2012.

Filed Date: 3/30/12.

Accession Number: 20120330-5139.

Comments Due: 5 p.m. ET 4/20/12.

Docket Numbers: ER12-1399-000.

Applicants: Enserco Energy LLC.

Description: Notice of Succession and Request for Category 1 Status of Enserco Energy LLC to be effective 5/29/2012.

Filed Date: 3/30/12.

Accession Number: 20120330-5143.

Comments Due: 5 p.m. ET 4/20/12.

Docket Numbers: ER12-1400-000.

Applicants: Flat Ridge 2 Wind Energy LLC.

Description: MBR Application of Flat Ridge 2 Wind Energy LLC to be effective 5/29/2012.

Filed Date: 3/30/12.

Accession Number: 20120330-5162.

Comments Due: 5 p.m. ET 4/20/12.

Docket Numbers: ER12-1401-000.

Applicants: Southwest Power Pool, Inc.

Description: Compliance Filing of Rate Schedule No. 11 in Docket Nos. ER09-659 and EL12-2 to be effective 3/30/2012.

Filed Date: 3/30/12.

Accession Number: 20120330-5194.

Comments Due: 5 p.m. ET 4/20/12.

Docket Numbers: ER12-1402-000.

Applicants: Southwest Power Pool, Inc.

Description: Compliance Filing of Tariff Att. O in Docket Nos. ER12-659 and EL12-2 to be effective 3/30/2012.

Filed Date: 3/30/12.

Accession Number: 20120330-5202.

Comments Due: 5 p.m. ET 4/20/12.

Docket Numbers: ER12-1403-000.

Applicants: Consolidated Edison Company of New York, Inc.

Description: PASNY/EDDS Tariffs RY 3 to be effective 4/1/2012.

Filed Date: 3/30/12.

Accession Number: 20120330-5241.

Comments Due: 5 p.m. ET 4/20/12.

Docket Numbers: ER12-1404-000.

Applicants: New England Power Pool Participants Committee.

Description: Apr 2012 Membership Filing to be effective 4/1/2012.

Filed Date: 3/30/12.

Accession Number: 20120330-5258.

Comments Due: 5 p.m. ET 4/20/12.

Docket Numbers: ER12-1405-000.

Applicants: The Connecticut Light and Power Company.

Description: PSEG New Haven Localized Costs Responsibility Agreement to be effective 3/1/2012.

Filed Date: 3/30/12.

Accession Number: 20120330-5269.

Comments Due: 5 p.m. ET 4/20/12.

Docket Numbers: ER12-1406-000.

Applicants: Duke Energy Indiana, Inc.

Description: Annual Reconciliation RS No. 253 to be effective 7/1/2011.

Filed Date: 3/30/12.

Accession Number: 20120330-5274.

Comments Due: 5 p.m. ET 4/20/12.

Docket Numbers: ER12-1407-000.

Applicants: Western Massachusetts Electric Company.

Description: PSEG New Haven Localized Costs Responsibility Agreement to be effective 3/1/2012.

Filed Date: 3/30/12.

Accession Number: 20120330-5282.

Comments Due: 5 p.m. ET 4/20/12.

Docket Numbers: ER12-1408-000.

Applicants: Consolidated Edison Company of New York, Inc.

Description: WDS RY 3 changes 4-2012 to be effective 4/1/2012 under ER12-1408 Filing Type: 320.

Filed Date: 3/30/12.

Accession Number: 20120330-5306.

Comments Due: 5 p.m. ET 4/20/12.

Docket Numbers: ER12-1409-000.

Applicants: Public Service Company of Colorado.

Description: 2011 Formula Rate Charges for Post-Retirement Benefits Other than Pensions of Public Service Company of Colorado.

Filed Date: 3/30/12.

Accession Number: 20120330-5313.

Comments Due: 5 p.m. ET 4/20/12.

Docket Numbers: ER12-1410-000.

Applicants: Public Service Company of New Hampshire.

Description: PSEG New Haven Localized Costs Responsibility Agreement to be effective 3/1/2012.

Filed Date: 3/30/12.

Accession Number: 20120330-5334.

Comments Due: 5 p.m. ET 4/20/12.

Docket Numbers: ER12-1411-000.

Applicants: Oklahoma Gas and Electric Company.

Description: Revised Rate Schedule FERC No. 106 to be effective 3/30/2012.

Filed Date: 3/30/12.

Accession Number: 20120330-5344.

Comments Due: 5 p.m. ET 4/20/12.

Docket Numbers: ER12-1412-000.

Applicants: Westar Energy, Inc.

Description: Westar Energy, Inc. submits tariff filing per 35.13(a)(2)(iii: Midwest Energy, Inc., Wholesale Power Sales Service to be effective 6/1/2012.

Filed Date: 3/30/12.

Accession Number: 20120330-5374.

Comments Due: 5 p.m. ET 4/20/12.

Take notice that the Commission received the following electric securities filings:

Docket Numbers: ES12-29-000.

Applicants: PJM Interconnection, L.L.C., PJM Settlement, Inc.

Description: Application of PJM Interconnection, L.L.C. and PJM Settlement, Inc. under Section 204 of the Federal Power Act for an Order Authorizing the Issuance of Securities.

Filed Date: 3/30/12.

Accession Number: 20120330-5190.

Comments Due: 5 p.m. ET 4/20/12.

Take notice that the Commission received the following open access transmission tariff filings:

Docket Numbers: OA09-16-003.

Applicants: Northeast Utilities Service Company.

Description: Northeast Utilities Service Company's 2011 Annual Refund Report—Order 890 Requirement.

Filed Date: 3/30/12.

Accession Number: 20120330-5177.

Comments Due: 5 p.m. ET 4/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2012.
Nathaniel J. Davis, Sr.,
Deputy Secretary.

[FR Doc. 2012-8304 Filed 4-5-12; 8:45 am]

BILLING CODE 6717-01-P